DEPARTMENT OF COMMERCE

[Docket No. 070215037-7038-01]

Department of Commerce FY 2007-2012 Strategic Plan

AGENCY: Department of Commerce.

ACTION: Request for comment.

SUMMARY: The Department is updating its current FY 2004-2009 Strategic Plan. As part of this process, the Department is inviting comments on its draft FY 2007-2012 Strategic Plan.

DATES: Public comments on this document must be received at the appropriate mailing or e-mail address (see ADDRESSES) on or before April 9, 2007.

ADDRESSES: Please send comments to Mr. Stephen Shapiro, Chief, Systems, Policy, and Performance Division, U.S. Department of Commerce, 1401 Constitution Avenue, NW., Room 5312, Washington, DC 20230. Comments may be submitted via e-mail to sshapiro@doc.gov. Commerce's draft Strategic Plan is posted at http://www.osec.doc.gov/bmi/budget/.

FOR FURTHER INFORMATION CONTACT: Mr. William Tatter, phone 202-482-5979, fax 202-482-2903, e-mail btatter@doc.gov.

SUPPLEMENTARY INFORMATION: Under the Government Performance and Results Act of 1993, each Federal agency must develop a Strategic Plan describing the agency's mission, strategic goals, and those means and strategies that will be used to achieve the agency's mission for the current and next five years. The plan must, additionally, describe the relationship between annual performance goals and the agency's strategic goal framework. These Strategic Plans must be updated and reviewed at least every three years, a key part of which includes consultation with Congress and other interested and potentially affected parties.

The draft FY 2007-2012 Strategic Plan updates the key challenges, means, and strategies documented in the FY 2004-2009 Strategic Plan. It also revises the goals, objectives, and outcomes to reflect current emphasis and to achieve greater consistency in style and format across the Department. Finally, it updates the measures used to track and report attainment of goals and objectives.

Dated: March 2, 2007.
Neil K. Shapiro,
Deputy Director, Office of Budget.

[FR Doc. E7-4116 Filed 3-7-07; 8:45 am]

BILLING CODE 3510-07-P